DEPARTMENT OF COMMERCE

International Trade Administration

[A-570-601]

Tapered Roller Bearings and Parts Thereof, Finished and Unfinished, From the People's Republic of China: Final Results of Review; 2020-2021

AGENCY: Enforcement and Compliance, International Trade Administration, Department of Commerce.

SUMMARY: The U.S. Department of Commerce (Commerce) determines that Shanghai Tainai Bearing Co., Ltd. (Tainai) sold tapered roller bearings and parts thereof, finished and unfinished, (TRBs) from the People's Republic of China (China) at less than normal value during the period of review (POR), June 1, 2020, through May 31, 2021. Additionally, we find that Tainai and Zhejiang Jingli Bearing Technology Co., Ltd. (Jingli) have each demonstrated that they are eligible for a separate rate.

DATES: Applicable January 10, 2023.

FOR FURTHER INFORMATION CONTACT: Alex Wood or Andrew Hart, AD/CVD Operations, Office II, Enforcement and Compliance, International Trade Administration, U.S. Department of Commerce, 1401 Constitution Avenue NW, Washington, DC 20230; telephone: (202) 482-1959 or (202) 482-1058.

SUPPLEMENTARY INFORMATION:

Background

Commerce published the Preliminary Results ¹ on July 8, 2022.² Subsequent to the Preliminary Results, we received briefs from Tainai and the Timken Company (the petitioner).³ On September 30, 2022, in accordance with section 751(a)(3)(A) of the Tariff Act of 1930, as amended (the Act), Commerce extended the deadline for issuing these final results until January 4, 2023.⁴ For a complete description of the events that occurred since the Preliminary Results, see the Issues and Decision Memorandum.⁵

¹ See Antidumping Duty Order; Tapered Roller Bearings and Parts Thereof, Finished or Unfinished, from the People's Republic of China, 52 FR 22667 (June 15, 1987), as amended in Tapered Roller Bearings from the People's Republic of China; Amendment to Final Determination of Sales at Less Than Fair Value and Antidumping Duty Order in Accordance with Decision Upon Remand, 55 FR 6669 (February 26, 1990) (collectively, Order).

² See Tapered Roller Bearings and Parts Thereof, Finished and Unfinished, from the People's Republic of China: Preliminary Results and Partial Rescission of Antidumping Duty Administrative Review; 2020-2021, 87 FR 40792 (July 8, 2022) (Preliminary Results), and accompanying Preliminary Decision Memorandum (PDM).

³ See Tainai's Letter, “Case Brief,” dated August 15, 2022; and Petitioner's Letter, “Rebuttal Brief,” dated August 23, 2022.

⁴ See Memorandum, “Extension of Deadline for Final Results of Antidumping Duty Administrative Review,” dated September 30, 2022.

⁵ See Memorandum, “Decision Memorandum for the Final Results of the 2020-2021 Administrative Review of the Antidumping Duty Order on Tapered Roller Bearings and Parts Thereof, Finished and Unfinished, from the People's Republic of China,” dated concurrently with, and hereby adopted by, this notice (Issues and Decision Memorandum).

Scope of the Order

Merchandise covered by the Order are tapered roller bearings and parts thereof, finished and unfinished, from China; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. Although the HTSUS item numbers are provided for convenience and customs purposes, the written description of the scope of the Order is dispositive.

Analysis of Comments Received

All issues raised in interested parties' briefs are addressed in the Issues and Decision Memorandum. A list of the issues raised by interested parties and to which we responded in the Issues and Decision Memorandum is provided in the appendix to this notice. The Issues and Decision Memorandum is a public document and on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding our Preliminary Results, we made no changes to the margin calculations for Tainai or the rate assigned to the non-examined, separate-rate respondent.⁶

⁶ Id.

Non-Examined Separate Rate Respondent

In the Preliminary Results, we determined that Jingli demonstrated its eligibility for a separate rate. We received no comments or argument since the issuance of the Preliminary Results that provide a basis for reconsideration of this determination. Therefore, for these final results, we continue to find that Jingli is eligible for a separate rate.

Final Results of Review

For the companies subject to this review that established their eligibility for a separate rate, Commerce determines that the following weighted-average dumping margins exist for the period June 1, 2020, through May 31, 2021:

Exporter | Weighted- average dumping margin (percent)
Shanghai Tainai Bearing Co., Ltd | 36.03
Zhejiang Jingli Bearing Technology Co., Ltd | 36.03

Disclosure

Normally, Commerce will disclose the calculations performed in connection with the final results of review within five days of the date of publication of the final results in the Federal Register, in accordance with 19 CFR 351.224(b). However, because Commerce made no adjustments to the margin calculation methodology used in the Preliminary Results, there are no calculations to disclose for these final results.

China-Wide Entity

In the Preliminary Results, we found that C&U Group Shanghai Bearing Co., Ltd. (C&U Group); Hangzhou C&U Automotive Bearing Co., Ltd. (C&U Automotive); Hangzhou C&U Metallurgy Bearing Co., Ltd. (C&U Metallurgy); Hebei Xintai Bearing Forging Co., Ltd. (Hebei Xintai); Huangshi C&U Bearing Co., Ltd. (Huangshi C&U); Sichuan C&U Bearing Co., Ltd. (Sichuan C&U); and Xinchang Newsun Xintianlong Precision Bearing Manufacturing Co., Ltd. (XTL) failed to rebut de facto and de jure control by the Government of China.⁷ We received no comments on this decision for these final results. Accordingly, we continue to find that C&U Group, C&U Automotive, C&U Metallurgy, Hebei Xintai, Huangshi C&U, Sichuan C&U, and XTL are not eligible for a separate rate and are, therefore, part of the China-wide entity.

⁷ See Preliminary Results PDM at 10-11.

Under Commerce's current policy regarding the conditional review of the China-wide entity, the China-wide entity will not be under review unless a party specifically requests, or Commerce self-initiates, a review of the entity.⁸ Because no party requested a review of the China-wide entity in this review, the entity is not under review, and the entity's rate is not subject to change (i.e., 92.84 percent).⁹

⁸ See Antidumping Proceedings: Announcement of Change in Department Practice for Respondent Selection in Antidumping Duty Proceedings and Conditional Review of the Nonmarket Economy Entity in NME Antidumping Duty Proceedings, 78 FR 65963 (November 4, 2013).

⁹ See Tapered Roller Bearings and Parts Thereof, Finished and Unfinished, from the People's Republic of China: Final Results of Antidumping Duty Administrative Review, 74 FR 3987, 3989 (January 22, 2009).

Assessment Rates

Commerce will determine, and U.S. Customs and Border Protection (CBP) shall assess, antidumping duties on all appropriate entries covered by this review.¹⁰ Commerce intends to issue assessment instructions to CBP no earlier than 35 days after the date of publication of the final results of this review in the Federal Register.¹¹ If a timely summons is filed at the U.S. Court of International Trade, the assessment instructions will direct CBP not to liquidate relevant entries until the time for parties to file a request for a statutory injunction has expired (i.e., within 90 days of publication).¹²

¹⁰ See 19 CFR 351.212(b)(1).

¹¹ See Notice of Discontinuation of Policy to Issue Liquidation Instructions After 15 Days in Applicable Antidumping and Countervailing Duty Administrative Proceedings, 86 FR 3995 (January 15, 2021).

¹² See Antidumping Proceedings: Calculation of the Weighted Average Dumping Margin and Assessment Rate in Certain Antidumping Proceedings; Final Modification, 77 FR 8101 (February 14, 2012).

For Tainai, Commerce will calculate importer-specific assessment rates for antidumping duties, in accordance with 19 CFR 351.212(b)(1). Where the respondent reported reliable entered values, Commerce intends to calculate importer-specific ad valorem assessment rates by aggregating the amount of dumping calculated for all U.S. sales to the importer and dividing this amount by the total entered value of the merchandise sold to the importer.¹³ Where the respondent did not report entered values, Commerce will calculate importer-specific assessment rates by dividing the amount of dumping for reviewed sales to the importer by the total quantity of those sales. Commerce will calculate an estimated ad valorem importer-specific assessment rate to determine whether the per-unit assessment rate is de minimis; however, Commerce will use the per-unit assessment rate where entered values were not reported.¹⁴ Where an importer-specific ad valorem assessment rate is not zero or de minimis, Commerce will instruct CBP to collect the appropriate duties at the time of liquidation. Where either the respondent's weighted average dumping margin is zero or de minimis, or an importer-specific ad valorem assessment rate is zero or de minimis, Commerce will instruct CBP to liquidate appropriate entries without regard to antidumping duties.

¹³ See 19 CFR 351.212(b)(1).

¹⁴ Id.

For Jingli, we will direct CBP to assess antidumping duties at a rate equal to the weighted-average dumping margin determined in these final results.

Commerce determined that C&U Group, C&U Automotive, C&U Metallurgy, Hebei Xintai, Huangshi C&U, Sichuan C&U, and XTL did not qualify for a separate rate. Therefore, we will instruct CBP to assess antidumping duties on these entities' entries of subject merchandise at 92.84 percent, the established weighted-average dumping margin for the China-wide entity.

Cash Deposit Requirements

The following cash deposit requirements will be effective upon publication of the final results of this administrative review for shipments of the subject merchandise from China entered, or withdrawn from warehouse, for consumption on or after the publication date, as provided by section 751(a)(2)(C) of the Act: (1) for the exporters listed above, the cash deposit rate will be equal to the weighted-average dumping margin established in the final results of this review; (2) for previously investigated or reviewed Chinese and non-Chinese exporters not listed above that currently have a separate rate, the cash deposit rate will continue to be the exporter-specific rate published for the most recently completed segment of this proceeding where the exporter received that separate rate; (3) for all Chinese exporters of subject merchandise that have not been found to be entitled to a separate rate, the cash deposit rate will be the rate for the China-wide entity, 92.84 percent; and (4) for all non-Chinese exporters of subject merchandise that have not received their own separate rate, the cash deposit rate will be the rate applicable to the Chinese exporter that supplied that non-Chinese exporter.

These deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

We are issuing and publishing these final results of administrative review in accordance with sections 751(a)(1) and 777(i)(1) of the Act and 19 CFR 351.221(b)(5) and 19 CFR 351.213(h)(2).

Dated: January 4, 2023.
Lisa W. Wang,
Assistant Secretary for Enforcement and Compliance.

Appendix—List of Topics Discussed in the Issues and Decision Memorandum

I. Summary

II. Background

III. Scope of the Order

IV. Discussion of the Issues

Comment 1: Application of Partial Adverse Facts Available (AFA) to Tainai

Comment 2: Romanian Surrogate Financial Ratios

Comment 3: Applicability of Surrogate Financial Ratios

Comment 4: Deduction of Section 301 Duties

Comment 5: Capping Section 301 Duty Payments

Comment 6: By-Product Offset

V. Recommendation

[FR Doc. 2023-00303 Filed 1-9-23; 8:45 am]

BILLING CODE 3510-DS-P